Title 3—

The President

Proclamation 7693 of July 25, 2003

Parents' Day, 2003

By the President of the United States of America

A Proclamation

Children are a daily reminder of the blessings and responsibilities of life and a source of joy, pride, and fulfillment. Parents, stepparents, adoptive parents, and foster parents have the important responsibility of providing for, protecting, nurturing, teaching, and loving their children. On Parents' Day, we honor America's mothers and fathers and celebrate the values that bind families from one generation to the next and help define us as a Nation.

As a child's first teachers, parents are the most influential and effective instructors in a child's life. Through their words, actions, and sacrifices, parents are living examples for children. Young boys and girls watch their parents closely and imitate their behavior. Parents play a critical role in instilling responsibility, integrity, and other life lessons that shape the lives of America's future leaders.

My Administration is committed to supporting our Nation's families. We are working with faith-based and community organizations to promote healthy marriages, responsible parenting, and education. And we are committed to fully funding and supporting the Promoting Safe and Stable Families Program, which helps strengthen family bonds, promote adoption, and provide help for vulnerable children across our country.

Volunteer service is one way parents can spend time with their children while encouraging them to learn the value of helping others. The USA Freedom Corps' “How I Spent My Summer” initiative includes volunteer opportunities where parents and children can work together to meet the needs of their communities. This initiative offers ideas such as collecting food for local food banks or school supplies for children in need. In addition, families can volunteer at one of our Nation's parks or recreation areas creating trails, assisting with archeological digs, or building and restoring houses. Teaching by example, parents can help their children become responsible citizens.

Parenting is one of the most rewarding and challenging endeavors in life. On this special day, we recognize the hard work and compassion of America's parents and celebrate the mothers and fathers who are positive role models for their children. I encourage parents to spend more time reading, talking, and volunteering with their children. I also urge parents to share the joys and wisdom of parenthood with new families in their communities and those planning families for the future.

NOW, THEREFORE, I, GEORGE W. BUSH, President of the United States of America, by virtue of the authority vested in me by the Constitution and laws of the United States and consistent with Public Law 103-362, as amended, do hereby proclaim Sunday, July 27, 2003, as Parents' Day. I encourage all Americans to express their respect and appreciation to parents everywhere for their contributions to their children, families, communities, and our Nation. I also call upon citizens to observe this day with appropriate programs, ceremonies, and activities.

IN WITNESS WHEREOF, I have hereunto set my hand this twenty-fifth day of July, in the year of our Lord two thousand three, and of the Independence of the United States of America the two hundred and twenty-eighth.

B

[FR Doc. 03-19571

Filed 7-29-03; 8:57 am]

Billing code 3195-01-P